DEPARTMENT OF COMMERCE

International Trade Administration

[A-552-802]

Certain Frozen Warmwater Shrimp From the Socialist Republic of Vietnam: Notice of Initiation and Preliminary Results of Antidumping Duty Changed Circumstances Review

AGENCY: Enforcement and Compliance, International Trade Administration, Department of Commerce.

SUMMARY: The Department of Commerce (Commerce) is initiating a changed circumstances review (CCR) to determine whether Camimex Group Joint Stock Company is the successor-in-interest to Camau Frozen Seafood Processing Import Export Corporation in the context of the antidumping duty (AD) order on certain frozen warmwater shrimp (shrimp) from the Socialist Republic of Vietnam (Vietnam). We also preliminarily determine that Camimex Group Joint Stock Company is the successor-in-interest to Camau Frozen Seafood Processing Import Export Corporation. Interested parties are invited to comment on these preliminary results.

DATES: Applicable July 8, 2021.

FOR FURTHER INFORMATION CONTACT: Irene Gorelik or Samuel Glickstein, AD/CVD Operations, Office VIII, Enforcement and Compliance, International Trade Administration, Department of Commerce, 1401 Constitution Avenue NW, Washington, DC 20230; telephone: (202) 482-6905 or (202) 482-5307, respectively.

SUPPLEMENTARY INFORMATION:

Background

On February 1, 2005, Commerce published the AD order on shrimp from Vietnam.¹ In the original investigation, we selected Camau Frozen Seafood Processing Import Export Corporation as a mandatory respondent and granted it a separate rate.² Camau Frozen Seafood Processing Import Export Corporation's separate rate status has not changed in subsequent administrative reviews of the Order. Most recently, in the administrative review covering the period February 1, 2017, through January 31, 2018, we assigned Camau Frozen Seafood Processing Import Export Corporation a separate rate, as a non-individually examined exporter under review.³

¹ See Notice of Amended Final Determination of Sales at Less Than Fair Value and Antidumping Duty Order: Certain Frozen Warmwater Shrimp from the Socialist Republic of Vietnam, 70 FR 5152 (February 1, 2005) (Order).

² Id.

³ See Certain Frozen Warmwater Shrimp from the Socialist Republic of Vietnam: Final Results of Antidumping Duty Administrative Review, 2017-2018, 84 FR 44859, 44860 (August 27, 2019).

On June 2, 2021, Camimex Group Joint Stock Company requested that, pursuant to section 751(b) of the Tariff Act of 1930, as amended (the Act), Commerce conduct a CCR of the Order to confirm that Camimex Group Joint Stock Company is the successor-in-interest to Camau Frozen Seafood Processing Import Export Corporation and, accordingly, to assign it the cash deposit rate of its predecessor.⁴ In its request, Camimex Group Joint Stock Company stated that it undertook a legal name change from Camau Frozen Seafood Processing Import Export Corporation, but the company is, otherwise, unchanged with regard to the factors to be examined.⁵ No interested parties filed comments opposing the CCR request.

⁴ See Camimex Group Joint Stock Company's Letter, “Request for Changed Circumstances Review,” dated June 2, 2021 (CCR Request). Camimex Group Joint Stock Company also requested that Commerce conduct an expedited initiation and preliminary results of CCR, pursuant to 19 CFR 351.221(c)(3)(ii).

⁵ Id. at 4-9.

Scope of the Order

The merchandise subject to the Order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, provided in the Appendix, remains dispositive.

Initiation and Preliminary Results of CCR

Pursuant to section 751(b)(1) of the Act, and 19 CFR 351.216, Commerce will conduct a CCR upon receipt of information concerning, or a request from an interested party for a review of, an AD order which shows changed circumstances sufficient to warrant a review of the order. The information submitted by Camimex Group Joint Stock Company supporting its claim that it is the successor-in-interest to Camau Frozen Seafood Processing Import Export Corporation, demonstrates changed circumstances sufficient to warrant such a review.⁶ Therefore, in accordance with 751(b)(1)(A) of the Act and 19 CFR 351.216(d), we are initiating a CCR based on the information contained in the CCR Request. Section 351.221(c)(3)(ii) of Commerce's regulations permits Commerce to combine the notice of initiation of a CCR and the notice of preliminary results if Commerce concludes that expedited action is warranted. In this instance, because the record contains information necessary to make a preliminary finding, we find that expedited action is warranted and have combined the notice of initiation and the notice of preliminary results.⁷

⁶ See 19 CFR 351.216(d); see also Notice of Initiation and Preliminary Results of Antidumping Duty Changed Circumstances Review: Carbon and Certain Alloy Steel Wire Rod from Mexico, 75 FR 67685 (November 3, 2010).

⁷ See 19 CFR 351.221(C)(3)(II); see also, e.g., Notice of Initiation and Preliminary Results of Changed Circumstances Reviews: Certain Passenger Vehicle and Light Truck Tires from the People's Republic of China, 85 FR 5193 (January 29, 2020), unchanged in Certain Passenger Vehicle and Light Truck Tires from the People's Republic of China: Final Results of Changed Circumstances Reviews, 85 FR 14638 (March 13, 2020).

In making a successor-in-interest determination, Commerce examines several factors, including, but not limited to, changes in the following: (1) Management; (2) production facilities; (3) supplier relationships; and (4) customer base.⁸ While no single factor, or combination of factors, will necessarily provide a dispositive indication of a successor-in-interest relationship, generally, Commerce will consider the new company to be the successor to the previous company if the new company's resulting operation is not materially dissimilar to that of its predecessor.⁹ Thus, if the record evidence demonstrates that, with respect to the production and sale of the subject merchandise, the new company operates as the same business entity as the predecessor company, Commerce may assign the new company the cash deposit rate of its predecessor.¹⁰

⁸ See Certain Pasta from Italy: Initiation and Preliminary Results of Antidumping Duty Changed Circumstances Review, 80 FR 33480, 33480-41 (June 12, 2015), unchanged in Certain Pasta from Italy: Final Results of Changed Circumstances Review, 80 FR 48807 (August 14, 2015) (Pasta from Italy); {Certain} Frozen Warmwater Shrimp from the Socialist Republic of Vietnam: Initiation and Preliminary Results of Changed Circumstances Review, 76 FR 20318 (April 12, 2011), unchanged in {Certain} Frozen Warmwater Shrimp from the Socialist Republic of Vietnam: Final Results of Antidumping Duty Changed Circumstances Review, 76 FR 30648 (May 26, 2011) (Shrimp from Vietnam).

⁹ See Pasta from Italy; and Shrimp from Vietnam.

¹⁰ Id.; see also Notice of Final Results of Changed Circumstances Antidumping Duty Administrative Review: Polychloroprene Rubber from Japan, 67 FR 58 (January 2, 2002); see also Ball Bearings and Parts Thereof from France: Final Results of Changed-Circumstances Review, 75 FR 34688 (June 18, 2010) (Commerce found successorship where the company changed its ownership structure, but made only minor changes to its operations, management, supplier relationships, and customer base).

In its CCR Request, Camimex Group Joint Stock Company provided information to demonstrate that it is the successor-in-interest to Camau Frozen Seafood Processing Import Export Corporation. We have reviewed the information provided to determine whether there were changes in management, production facilities, supplier relationships, and customer base.

With respect to management prior to and following the name change, Camimex Group Joint Stock Company demonstrated that it has the same management team, including the chairman and members of the board, as Camau Frozen Seafood Processing Import Export Corporation.¹¹ Additionally, Camimex Group Joint Stock Company provided evidence that its organizational structure is identical to that of predecessor Camau Frozen Seafood Processing Import Export Corporation.¹² Furthermore, Camimex Group Joint Stock Company provided evidence that its production facilities and contents therein and those of predecessor Camau Frozen Seafood Processing Import Export Corporation are unchanged; Camimex Group Joint Stock Company retained the same address as Camau Frozen Seafood Processing Import Export Corporation.¹³

¹¹ See CCR Request at 6-7 and Attachment 5.

¹² Id.

¹³ Id. at 7, 9-10 and Attachments 1 and 9. Camimex Group Joint Stock Company also included sales documentation demonstrating that it and the predecessor company share the same address, telephone number, and email address.

Camimex Group Joint Stock Company also demonstrated that it continues to source finished product from its affiliated subsidiary, Camimex Seafood Company Ltd. (the producer of subject merchandise), which Camimex Group Joint Stock Company, in turn, resells to foreign and domestic markets. This is unchanged from the producer/seller relationship between subsidiary producer, Camimex Seafood Company Ltd. and predecessor Camau Frozen Seafood Processing Import Export Corporation.¹⁴ With regard to customer base, in its CCR Request, Camimex Group Joint Stock Company provided a letter sent to customers and partners notifying them of the company's name change, thereby demonstrating that it retained the predecessor company's customers.¹⁵

¹⁴ Id. at 7 and Attachment 6.

¹⁵ Id. at 8-9 and Attachment 8.

Therefore, given the continuity noted above, and consistent with our practice,¹⁶ we preliminarily determine that no significant changes occurred with respect to Camau Frozen Seafood Processing Import Export Corporation's management, production facilities, suppliers, or customer base as a result of the name change to Camimex Group Joint Stock Company. In accordance with 19 CFR 351.216, we preliminarily determine that Camimex Group Joint Stock Company is the successor-in-interest to Camau Frozen Seafood Processing Import Export Corporation. Record evidence demonstrates that Camimex Group Joint Stock Company operates as the same business entity as Camau Frozen Seafood Processing Import Export Corporation with respect to subject merchandise, as discussed above. As such, Camimex Group Joint Stock Company is entitled to Camau Frozen Seafood Processing Import Export Corporation's cash deposit rate with respect to entries of subject merchandise.

¹⁶ See, e.g., Certain Softwood Lumber Products from Canada: Notice of Initiation and Preliminary Results of Antidumping Duty Changed Circumstances Review, 86 FR 22934 (April 30, 2021), unchanged in Certain Softwood Lumber Products from Canada: Notice of Final Results of Antidumping Duty Changed Circumstances Review, 86 FR 33222 (June 24, 2021).

Should our final results remain unchanged from these preliminary results, we will instruct U.S. Customs and Border Protection to assign entries of subject merchandise exported by Camimex Group Joint Stock Company the AD cash deposit rate applicable to Camau Frozen Seafood Processing Import Export Corporation. Commerce will issue its final results of the review in accordance with the time limits set forth in 19 CFR 351.216(e).

Public Comment

Pursuant to 19 CFR 351.310(c), any interested party may request a hearing within 30 days of publication of this notice. In accordance with 19 CFR 351.309(c)(1)(ii), interested parties may submit case briefs not later than 30 days after the date of publication of this notice. Rebuttal briefs, limited to issues raised in the case briefs, may be filed no later than seven days after the case briefs, in accordance with 19 CFR 351.309(d).¹⁷ Parties who submit case or rebuttal briefs are encouraged to submit with each argument: (1) A statement of the issue; (2) a brief summary of the argument; and (3) a table of authorities.¹⁸ All comments are to be filed electronically using Enforcement and Compliance's Antidumping and Countervailing Duty Centralized Electronic Service System (ACCESS) available to registered users at https://access.trade.gov, and must also be served on interested parties. An electronically filed document must be received successfully in its entirety by ACCESS by 5:00 p.m. Eastern Time on the day it is due.¹⁹ Note that Commerce has temporarily modified certain requirements for serving documents containing business proprietary information, until further notice.²⁰

¹⁷ See Temporary Rule Modifying AD/CVD Service Requirements Due to COVID-19, 85 FR 17006, 17007 (March 26, 2020).

¹⁸ See 19 CFR 351.309(c)(2).

¹⁹ See 19 CFR 351.303(b).

²⁰ See Temporary Rule Modifying AD/CVD Service Requirements Due to COVID-19; Extension of Effective Period, 85 FR 41363 (July 10, 2020).

Consistent with 19 CFR 351.216(e), Commerce will issue the final results of this CCR no later than 270 days after the date on which this review was initiated, or within 45 days of publication of these preliminary results, if all parties agree to our preliminary finding.

This notice is published in accordance with sections 751(b)(1) and 777(i) of the Act and 19 CFR 351.216(b) and 351.221(c)(3)(ii).

Dated: July 1, 2021.
Ryan Majerus,
Deputy Assistant Secretary for Policy and Negotiations.

Appendix

Scope of the Order

The scope of the order includes certain frozen warmwater shrimp and prawns, whether wildcaught (ocean harvested) or farm-raised (produced by aquaculture), head-on or head-off, shell-on or peeled, tail-on or tail-off,²¹ deveined or not deveined, cooked or raw, or otherwise processed in frozen form.

²¹ “Tails” in this context means the tail fan which includes the telson and the uropods.

The frozen warmwater shrimp and prawn products included in the scope of the order, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations, which are not “prepared meals,” that contain more than 20 percent by weight of shrimp or prawn are also included in the scope of the order. Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); and (7) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried. The products covered by this order are currently classified under the following HTS subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. These HTS subheadings are provided for convenience and for customs purposes only and are not dispositive, but rather the written description of the scope of this order is dispositive.²²

²² On April 26, 2011, Commerce amended the order to include dusted shrimp, pursuant to the U.S. Court of International Trade (CIT) decision in Ad Hoc Shrimp Trade Action Committee v. United States, 703 F. Supp. 2d 1330 (CIT 2010) and the U.S. International Trade Commission (USITC) determination, which found the domestic like product to include dusted shrimp. See Certain Frozen Warmwater Shrimp from Brazil, India, the People's Republic of China, Thailand, and the Socialist Republic of Vietnam: Amended Antidumpling Duty Orders in Accordance with Final Court Decision, 76 FR 23277 (April 26, 2011); see also Ad Hoc Shrimp Trade Action Committee v. United States, 703 F. Supp. 2d 1330 (CIT 2010; and Frozen Warmwater Shrimp from Brazil, China, India, Thailand, and Vietnam (Investigation Nos. 731-TA-1063, 1064, 1066-1068 (Review), USITC Publication 4221, March 2011.

[FR Doc. 2021-14571 Filed 7-7-21; 8:45 am]

BILLING CODE 3510-DS-P